DEPARTMENT OF COMMERCE

National Oceanic and Atmospheric Administration

RIN 0648-XA579

Western Pacific Fisheries; Approval of a Marine Conservation Plan for the Northern Mariana Islands

AGENCY: National Marine Fisheries Service (NMFS), National Oceanic and Atmospheric Administration (NOAA), Commerce.

ACTION: Notice of agency decision.

SUMMARY: NMFS announces approval of a marine conservation plan for the Northern Mariana Islands.

DATES: This agency decision is effective from August 4, 2011, through August 3, 2014.

ADDRESSES: Copies of the MCP are available from http://www.regulations.gov, or the Western Pacific Fishery Management Council (Council), 1164 Bishop St., Suite 1400, Honolulu, HI 96813, tel 808-522-8220.

FOR FURTHER INFORMATION CONTACT: Jarad Makaiau, Sustainable Fisheries, NMFS Pacific Islands Regional Office, 808-944-2108.

SUPPLEMENTARY INFORMATION: Section 204(e) of the Magnuson-Stevens Fishery Conservation and Management Act (Magnuson-Stevens Act) authorizes the Secretary of State, with the concurrence of the Secretary of Commerce (Secretary) and in consultation with the Council, to negotiate and enter into a Pacific Insular Area fishery agreement (PIAFA). A PIAFA would allow foreign fishing within the U.S. Exclusive Economic Zone (EEZ) adjacent to American Samoa, Guam, or the Northern Mariana Islands with the concurrence of, and in consultation with, the Governor of the Pacific Insular Area to which the PIAFA applies. Before entering into a PIAFA, the appropriate Governor, with the concurrence of the Council, must develop a 3-year marine conservation plan (MCP) providing details on uses for any funds collected by the Secretary under the PIAFA.

The Magnuson-Stevens Act requires payments received under a PIAFA to be deposited into the United States Treasury and then conveyed to the Treasury of the Pacific Insular Area for which funds were collected. In the case of violations by foreign fishing vessels occurring within the EEZ off any Pacific Insular Area, amounts received by the Secretary attributable to fines and penalties imposed under the Magnuson-Stevens Act, including sums collected from the forfeiture and disposition or sale of property seized subject to its authority, shall be deposited into the Treasury of the Pacific Insular Area adjacent to the EEZ in which the violation occurred, after direct costs of the enforcement action are subtracted. Any funds deposited into the Treasury of the Pacific Insular Area may be used by the jurisdiction for fisheries enforcement and for implementation of an MCP.

An MCP must be consistent with the Council's fishery ecosystem plans, must identify conservation and management objectives (including criteria for determining when such objectives have been met), and must prioritize planned marine conservation projects. Although no foreign fishing is being considered at this time, the Council, at its 151st meeting held June 15-18, 2011, reviewed and approved the Northern Mariana Islands MCP and recommended its submission to the Secretary for approval. On June 29, 2011, the Governor of the Commonwealth of the Northern Mariana Islands (CNMI) submitted the MCP to NMFS, the designee of the Secretary, for review and approval.

The CNMI MCP contains 10 conservation and management objectives under which planned projects and activities designed to meet the objective are identified and described, as follows:

Objective 1. Data collection and reporting through a commercial harvest monitoring program.

Objective 2. Resource assessment and monitoring through analysis of data on pelagic fisheries resources.

Objective 3. Habitat assessment and monitoring.

Objective 4. Management procedures through the development of management zones for the U.S. Exclusive Economic Zone (EEZ).

Objective 5. Surveillance and enforcement through an EEZ enforcement program.

Objective 6. Promote responsible domestic fisheries development to provide long term economic growth and stability and local food production. This objective would be supported through the following projects:

(a) Construction of cold storage, fish processing, and fish market facilities.

(b) Longline permit, reporting, and quota utilization program to facilitate responsible fisheries.

(c) Development of a fish marketing plan that includes market identification, transportation, fish products, branding and ecolabeling, and other marketing issues.

(d) Enhance fishing opportunities by deploying community fish aggregation devices.

(e) Fisheries technology and education program.

(f) Recreational and subsistence fishing economic impact and use study.

(g) Charter fishing economic impact study.

(h) CNMI commercial fisheries baseline assessment.

Objective 7. Public participation.

Objective 8. Regional cooperation through participation in regional fisheries meetings and conferences.

Objective 9. Western Pacific demonstration projects, including the following:

(a) Village-based aquaculture project.

(b) Northern Islands remote fishing station project.

Objective 10. Performance evaluation.

This notice announces that NMFS has determined that the CNMI MCP satisfies the requirements of the Magnuson-Stevens Act and approves the MCP for the 3-year period from August 4, 2011, through August 3, 2014. The current MCP supersedes the amended CNMI MCP approved for the period October 6, 2009, through October 6, 2011 (74 FR 25710, May 29, 2009).

Dated: August 8, 2011.
Emily H. Menashes,
Acting Director, Office of Sustainable Fisheries, National Marine Fisheries Service.

[FR Doc. 2011-20594 Filed 8-11-11; 8:45 am]

BILLING CODE 3510-22-P